ENVIRONMENTAL PROTECTION AGENCY

40 CFR Part 52

[R1-7218c; A-1-FRL-7513-1]

Approval and Promulgation of Air Quality Implementation Plans; Connecticut, Massachusetts and Rhode Island; Nitrogen Oxides Budget and Allowance Trading Program

AGENCY: Environmental Protection Agency (EPA).

ACTION: Proposed rule.

SUMMARY: EPA is proposing to approve State Implementation Plan (SIP) revisions submitted by Connecticut, Massachusetts and Rhode Island. These SIP revisions make minor technical corrections to the nitrogen oxides (NOX) budget and trading programs in these states. Each State's SIP revision adjusts the baseline and emissions budgets for highway mobile and non-electric generating point sources such that they are consistent with those in EPA's March 2, 2000 “Technical Amendment to the Finding of Significant Contribution and Rulemaking for Certain States for Purposes of Reducing Regional Transport of Ozone” (65 FR 11222). The technical revisions do not affect the regulatory programs in these states, however, the changes are needed to fully approve the programs as meeting the EPA's regulation “Finding of Significant Contribution and Rulemaking for Certain States in the Ozone Transport Assessment Group Region for Purposes of Reducing Regional Transport of Ozone,” otherwise known as the “NOX SIP Call.” The intended effect of this action is to propose approval of the SIP revisions for the Connecticut, Massachusetts and Rhode Island NOX budget trading programs as meeting Phase I and II of the EPA's NOX SIP Call. This action is being taken in accordance with section 110 of the Clean Air Act (CAA).

DATES: Written comments must be received on or before July 21, 2003.

ADDRESSES: Comments may be mailed to David Conroy, Unit Manager, Air Quality Planning, Office of Ecosystem Protection (mail code CAQ). Copies of the documents relevant to this action are available for public inspection during normal business hours, by appointment at the Office of Ecosystem Protection, U.S. Environmental Protection Agency, EPA-New England, One Congress Street, 11th floor, Boston, MA. Copies of the documents specific to the SIP approval for Connecticut are available at the Bureau of Air Management, Department of Environmental Protection, State Office Building, 79 Elm Street, Hartford, CT 06106-1630. Copies of the documents specific to the SIP approval for Massachusetts are available at the Division of Air Quality Control, Department of Environmental Protection, One Winter Street, 8th Floor, Boston, MA 02108. Copies of the documents specific to the SIP approval for Rhode Island are available at the Office of Air Resources, Department of Environmental Management, 235 Promenade Street, Providence, RI 02908-5767.

FOR FURTHER INFORMATION CONTACT: Dan Brown at (617) 918-1532 or via e-mail at brown.dan@epa.gov.

SUPPLEMENTARY INFORMATION: In the Final Rules Section of this Federal Register, EPA is approving each State's SIP submittal as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule which is located in the Rules Section of this Federal Register.

Dated: June 2, 2003.
Robert W. Varney,
Regional Administrator, EPA New England.

[FR Doc. 03-15127 Filed 6-19-03; 8:45 am]

BILLING CODE 6560-50-P